DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Supplemental Information Request for the Submission of the Updated State Plan for the Home Visiting Program (OMB No. 0915-0336)—[Extension]

On March 23, 2010, the President signed into law the Patient Protection and Affordable Care Act of 2010 (Pub. L. 111-148), historic and transformative legislation designed to make quality, affordable health care available to all Americans, reduce costs, improve health care quality, enhance disease prevention, and strengthen the health care workforce. Through a provision authorizing the creation of the Maternal, Infant, and Early Childhood Home Visiting Program, (http://frwebgate.access.gpo.gov/cgi-bin/getdoc.cgi?dbname=111_cong_bills&docid=f:h3590enr.txt.pdf, pages 216-225), the Act responds to the diverse needs of children and families in communities at risk and provides an unprecedented opportunity for collaboration and partnership at the Federal, State, and community levels to improve health and development outcomes for at-risk children through evidence-based home visiting programs.

The Maternal, Infant, and Early Childhood Home Visiting (MIECHV) Program is designed: (1) To strengthen and improve the programs and activities carried out under Title V; (2) to improve coordination of services for at-risk communities; and (3) to identify and provide comprehensive services to improve outcomes for families who reside in at-risk communities.

To achieve the legislative requirements of the MIECHV program, the following application steps were required:

The first step was submission of an application for funding: the Funding Opportunity Announcement (FOA) HRSA-10-275 was issued on June 10, 2010, and State applications were due July 9, 2010. These applications were to include plans for completing the statewide needs assessment and initial State plans for developing the program in order to meet the criteria identified in the legislation. Submission of the needs assessments in the form and manner required by the Secretary is also a required condition for States to receive FY 2011 Title V Block Grant allotments. On September 20, 2010, all 50 States, the District of Columbia, and five U.S. territories submitted needs assessments that identified communities at risk. The needs assessments submitted were approved, and all 56 applicants have received FY 2011 Title V Block Grant funds.

As a condition of receiving the remaining grant award made to States in July 2010, each of the 56 applicants is also required to develop an Updated State Plan for a State Home Visiting Program. The Secretary of Health and Human Services must approve the Updated State Plan before the release of the remaining grant funds.

The information requested for the Updated State Plan is intended to help States view their proposed State Home Visiting Program as a service strategy aimed at developing a comprehensive, high-quality early childhood system that promotes maternal, infant, and early childhood health, safety and development, and strong parent-child relationships in the targeted community(ies) at risk. Ultimately, the information provided will help States develop a comprehensive plan that addresses community risk factors, builds on strengths identified in the targeted community(ies), and responds to the specific characteristics and needs of families in each of these communities.

The annual estimate of burden is as follows:

Instrument | Number of respondents | Responses per respondent | Total responses | Hours per response | Total burden hours
Section 1: Identification of the State's Targeted At-Risk Community(ies) | 56 | 1 | 56 | 30 | 1,680
Section 2: State Home Visiting Program Goals and Objectives | 56 | 1 | 56 | 30 | 1,680
Section 3: Selection of Proposed Home Visiting Model(s) and Explanation of How the Model(s) Meet the Needs of Targeted Community(ies) | 56 | 1 | 56 | 30 | 1,680
Section 4: Implementation Plan for Proposed State Home Visiting Program | 56 | 1 | 56 | 60 | 3,360
Section 5: Plan for Meeting Legislatively-Mandated Benchmarks | 56 | 1 | 56 | 60 | 3,360
Section 6: Plan for Administration of State Home Visiting Program | 56 | 1 | 56 | 40 | 2,240
Section 7: Plan for Continuous Quality Improvement | 56 | 1 | 56 | 20 | 1,120
Section 8: Technical Assistance Needs | 56 | 1 | 56 | 1 | 56
Total | 56 |  |  |  | 15,176

E-mail comments to paperwork@hrsa.gov or mail the HRSA Reports Clearance Officer, Room 10-33, Parklawn Building, 5600 Fishers Lane, Rockville, MD 20857. Written comments should be received within 60 days of this notice.

Dated: March 2, 2011.
Reva Harris,
Acting Director, Division of Policy and Information Coordination.

[FR Doc. 2011-5366 Filed 3-8-11; 8:45 am]

BILLING CODE 4165-15-P